DEPARTMENT OF COMMERCE

National Oceanic and Atmospheric Administration

Proposed Information Collection; Comment Request; Expenditure Survey of Atlantic Highly Migratory Species Tournaments and Participants

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 26, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to George Silva at (301) 427-8503 or george.silva@noaa.gov.

SUPPLEMENTARY INFORMATION:

I. Abstract

This request is for a new collection of information.

The objective of the study is to collect information on the earnings and expenditures of Atlantic Highly Migratory Species (HMS) tournament operators and participants. The study will use two survey instruments to collect information from tournament operators and participants. One survey will ask tournament operators to characterize and quantify their operating costs and income sources in addition to describing their tournament participants. The other survey instrument will ask fishing tournament participants to estimate their expenditures associated with travel to, entering, and participating in the tournament.

The National Marine Fisheries Service (NMFS) will collect cost and earnings data from all tournaments registered within the year (approximately 260 based on recent years' tournament registration data). In addition, NMFS will select fifty percent of registered tournaments to distribute expenditure surveys to anglers registered for those tournament events. The Atlantic HMS Management Division is currently consulting with tournament organizers and participants to design the survey instruments to ensure NMFS captures data on all relevant expenditures.

As specified in the Magnuson-Stevenson Fishery Conservation and Management Act of 1996 (and reauthorized in 2007), NMFS is required to enumerate the economic impacts of the policies it implements on fishing participants and coastal communities. The cost and earnings data collected in this survey will be used to estimate the economic contributions and impacts of Atlantic HMS tournaments regionally.

II. Method of Collection

The primary data collection vehicle will be paper and/or internet-based survey forms delivered at tournament events. Telephone and personal interviews may be employed to supplement and verify written survey responses.

III. Data

OMB Control Number: 0648-XXXX.

Form Number: None.

Type of Review: Regular submission (request for a new information collection).

Affected Public: Members of the public.

Estimated Number of Respondents: 260 tournament operators and 2,500 tournament participants.

Estimated Time Per Response: 15 minutes per survey.

Estimated Total Annual Burden Hours: 690.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 19, 2015.
Sarah Brabson,
NOAA PRA Clearance Officer.

[FR Doc. 2015-20890 Filed 8-24-15; 8:45 am]

BILLING CODE 3510-22-P